DEPARTMENT OF LABOR

Employment and Training Administration

[TA-W-56,641]

Stant Manufacturing, Inc., Connersville, IN; Notice of Termination of Investigation

Pursuant to Section 221 of the Trade Act of 1974, as amended, an investigation was initiated on February 25, 2005 in response to a petition filed by the United Automobile, Aerospace & Agricultural Implement Workers of America International Union, Local 1904, on behalf of workers at Stant Manufacturing, Inc., Connersville, Indiana.

The petition is a copy of the petition instituted on February 8, 2005 (TA-W-56,532). On February 28, 2005, the Department issued a certification of eligibility for workers of Stant Manufacturing, Inc., Connorsville, Indiana, to apply for trade adjustment assistance and alternative trade adjustment assistance.

Further investigation in this case would serve no purpose. Consequently, the investigation under this petition has been terminated.

Signed at Washington, DC, this 2nd day of March 2005.
Linda G. Poole,
Certifying Officer, Division of Trade Adjustment Assistance.

[FR Doc. E5-1362 Filed 3-25-05; 8:45 am]

BILLING CODE 4510-30-P